DEPARTMENT OF JUSTICE

Notice of Lodging of Consent Decree Between the United States of America and Tamarack Resort LLC Under the Clean Water Act

Under 28 CFR 50.7, notice is hereby given that on January 24, 2008, a proposed Consent Decree (“Consent Decree”) in the case of United States v. Tamarack Resort LLC, Civil Action No. 08-40-MHW, was lodged with the United States District Court for the District of Idaho. The Consent Decree resolves the United States' claims alleged in the complaint against the defendant, Tamarack Resort LLC (Tamarack). The claims concern storm water discharged from a ski resort construction site in Donelly, Idaho. Specifically, the complaint alleges that Tamarack violated section 301 of the Clean Water Act, 33 U.S.C. 1311, by discharging pollutants without a permit, and that Tamarack failed to comply with conditions of general permits issued under section 402 of the Clean Water Act, 33 U.S.C. 1342.

The Consent Decree will require Tamarack to pay a civil penalty in the amount of $185,000; to observe limits on winter construction efforts to avoid causing excess runoff; and to abide by the terms of the Construction General Permit.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. Tamarack Resort LLC, Civil Action No. 08-40-MHW, D.J. Ref. No. 90-5-1-1-08976.

The Consent Decree may be examined at the office of the United States Attorney, District of Idaho, Washington Park Plaza IV, 800 Park Blvd., Suite 600, Boise, Idaho, and at the Region 10 office of the United States Environmental Protection Agency, 1200 Sixth Ave., Seattle, Washington. During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $7.25 (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-1581 Filed 1-30-08; 8:45 am]

BILLING CODE 4410-15-P